ENVIRONMENTAL PROTECTION AGENCY

[ER-FRL-9041-5]

Environmental Impact Statements; Notice of Availability

Responsible Agency: Office of Federal Activities, General Information (202) 564-5632 or https://www.epa.gov/nepa/.

Weekly receipt of Environmental Impact Statements

Filed 09/17/2018 Through 09/21/2018

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20180220, Draft Supplement, USFS, ID, Clear Creek Integrated Restoration Project, Comment Period Ends: 11/13/2018, Contact: Zoanne Anderson 208-963-4209.

EIS No. 20180221, Draft, HUD, VA, Ohio Creek Watershed Project, Comment Period Ends: 11/13/2018, Contact: Kerry Johnson 804-822-4803.

EIS No. 20180222, Draft, USFS, BLM, ID, Proposed East Smoky Panel Mine Project at Smoky Canyon Mine, Comment Period Ends: 12/26/2018, Contact: Kyle Free 208-478-6352.

EIS No. 20180223, Draft Supplement, GSA, CA, San Ysidro Land Port of Entry Improvements Project, Comment Period Ends: 11/13/2018, Contact: Osmahn A. Kadri 415-522-3617.

EIS No. 20180224, Draft, USACE, CT, New Haven Harbor Navigation Improvement Project, Draft Integrated Feasibility Report and Environmental Impact Statement, Comment Period Ends: 11/15/2018, Contact: Todd Randall 978-318-8518.

EIS No. 20180225, Final, USFS, CA, Strategic Community Fuelbreak Improvement Project, Review Period Ends: 10/29/2018, Contact: Nic Elmquist 805-967-3481.

EIS No. 20180226, Final, USN, WA, EA-18G “Growler” Airfield Operations at Naval Air Station Whidbey Island Complex, WA, Review Period Ends: 10/29/2018, Contact: Lisa Padgett 757-836-8446.

Amended Notices

EIS No. 20180178, Draft, NHTSA, REG, Draft EIS for The Safer Affordable Fuel-Efficient (SAFE) Vehicles Rule for Model Year 2021-2026 Passenger Cars and Light Trucks, Comment Period Ends: 10/26/2018, Contact: Ken Katz 202-366-4936.

Revision to FR Notice Published08/10/2018; Extending the Comment Period from 09/24/2018 to 10/26/2018.

EIS No. 20180207, Final, USACE, NE, Missouri River Recovery Management Plan, Review Period Ends:10/22/2018, Contact: Tiffany Vanosdall 402-995-2695.

Revision to FR Notice Published9/7/2018; Extending the Review Period from 10/09/2018 to 10/22/2018.

Dated: September 24, 2018.
Robert Tomiak,
Director, Office of Federal Activities.

[FR Doc. 2018-21111 Filed 9-27-18; 8:45 am]

BILLING CODE 6560-50-P